DEPARTMENT OF ENERGY

Federal Energy Regulatory Commission

[Project No. 14435-000]

Wills Creek Hydro, LLC; Notice of Preliminary Permit Application Accepted for Filing and Soliciting Comments, Motions To Intervene, and Competing Applications

On July 17, 2012, Wills Creek Hydro, LLC filed an application for a preliminary permit, pursuant to section 4(f) of the Federal Power Act (FPA), proposing to study the feasibility of the Wills Creek Dam Hydroelectric Project (Wills Creek Project or project) to be located at U.S. Army Corps of Engineers' (Corps) Wills Creek Dam on Wills Creek, near Coshocton, Coshocton County, Ohio. The sole purpose of a preliminary permit, if issued, is to grant the permit holder priority to file a license application during the permit term. A preliminary permit does not authorize the permit holder to perform any land-disturbing activities or otherwise enter upon lands or waters owned by others without the owners' express permission.

The existing Corps facilities include: (1) The Wills Creek Lake which has a surface area of 11,450 acres at a normal lake elevation of 742 feet and a maximum storage capacity of 196,000 acre-feet; (2) a 1,950-foot-long, 87-foot-high earth fill dam; (3) a 100-foot-high, 75-foot-wide, 25-foot-long intake structure located at the west abutment; and (4) a 230-foot-long, 25-foot-wide, 25-foot-high concrete arch tunnel conduit.

The proposed project would consist of the following non-federal facilities: (1) A 30-foot-wide, 30-foot-high, 2-foot-thick concrete diversion wall with a crest elevation of 742 feet equipped with two slide gates to release flood waters; the diversion wall would be located at the end of the Corps' concrete arch tunnel; (2) a 30-foot-long, 106-inch-diameter steel penstock; (3) a 30-foot-wide, 25-foot-long, 20-foot-high powerhouse located near the west wing wall of the Corps' existing outlet channel and containing a pit/bulb propeller-type turbine/generator unit with a total capacity of 1 megawatt; (4) a 50-foot-long, 12.7-kilovolt transmission line connecting the project to an existing distribution line owned by Cincinnati Gas and Electric Company; and (5) appurtenant facilities. The project would be located entirely on federal lands managed by the Corps. The estimated annual generation of the Wills Creek Dam Project would be 5,728 megawatt-hours.

Applicant Contact: Mr. Mark Boumansour, 1035 Pearl Street, 4th Floor, Boulder, CO 80302; phone: (720) 295-3317.

FERC Contact: Sergiu Serban; phone: (202) 502-6211.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14435) in the docket number field to access the document. For assistance, contact FERC Online Support.

Dated: September 21, 2012.
Kimberly D. Bose,
Secretary.

[FR Doc. 2012-23802 Filed 9-26-12; 8:45 am]

BILLING CODE 6717-01-P